SECURITIES AND EXCHANGE COMMISSION

Sunshine Act Meetings

TIME AND DATE: Notice is hereby given, pursuant to the provisions of the Government in the Sunshine Act (Pub. L. 94-409), that the Securities and Exchange Commission will hold an Open Meeting on Monday, September 9, 2024, at 10:00 a.m. (ET).

PLACE: The meeting will be webcast on the Commission's website at www.sec.gov.

STATUS: This meeting will begin at 10:00 a.m. (ET) and will be open to the public via webcast on the Commission's website at www.sec.gov.

MATTERS TO BE CONSIDERED: 1. The Commission will consider whether to approve a new quality control standard, QC 1000, A Firm's System of Quality Control, and related amendments, as adopted by the Public Company Accounting Oversight Board.

CONTACT PERSON FOR MORE INFORMATION: For further information and to ascertain what, if any, matters have been added, deleted or postponed, please contact Vanessa A. Countryman from the Office of the Secretary at (202) 551-5400.

(Authority: 5 U.S.C. 552b)

Dated: August 30, 2024.
J. Matthew DeLesDernier,
Deputy Secretary.

[FR Doc. 2024-19928 Filed 8-30-24; 4:15 pm]

BILLING CODE 8001-01-P